DEPARTMENT OF LABOR

Employment and Training Administration

[TA-W-80,160]

Pension Systems Corporation, Sherman Oaks, CA; Notice of Affirmative Determination Regarding Application for Reconsideration

By application dated August 2, 2011, a petitioner requested administrative reconsideration of the negative determination regarding workers' eligibility to apply for Trade Adjustment Assistance (TAA) applicable to workers and former workers of Pension Systems Corporation, Sherman Oaks, California (Pension Systems). The negative determination was issued on July 20, 2011. The Department's Notice of Determination was published in the Federal Register on August 12, 2011 (76 FR 50270). The workers are engaged in activities related to the supply of pension administration and recordkeeping services.

The negative determination was based on the findings that, with respect to Section 222(a) or Section 222(b) of the Act, was not been met because the firm did not produce an article. With respect to Section 222(c) of the Act, the investigation revealed that the firm is not a Supplier or Downstream Producer to a firm with a TAA-certified worker group.

In the request for reconsideration, the petitioner stated that the subject firm produces software that administers and tracks 401k plans, and alleges that the worker separations at the subject firm are due to increased customer imports from India.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 28th day of September 2011.
Del Min Amy Chen,
Certifying Officer, Office of Trade Adjustment Assistance.

[FR Doc. 2011-25722 Filed 10-4-11; 8:45 am]

BILLING CODE 4510-FN-P